DEPARTMENT OF AGRICULTURE

Forest Service

Green Mountain National Forest; Vermont; Deerfield Wind Project

AGENCY: Forest Service, USDA.

ACTION: Revision, notice of intent to prepare an environmental impact statement.

SUMMARY: The Forest Service is processing an application for a special use authorization from Deerfield Wind, LLC for the installation and operation of wind turbines on National Forest System (NFS) lands managed by the Green Mountain National Forest (GMNF). This notice revises the “responsible official”, updates the expected dates for the release of the EIS, makes minor modifications to certain parts of the proposed action, and asks for comments on those modifications.

DATES: Comments concerning the scope of the analysis, specifically in regard to the modifications to the original proposed action, should be received by October 19, 2007. The draft environmental impact statement is now expected in January 2008 and the final environmental impact statement is expected in July 2008.

ADDRESSES: Send written comments to Bob Bayer, Project Coordinator, Manchester Ranger District, USDA Forest Service, 2538 Depot Street, Manchester Center, VT 05255.

FOR FURTHER INFORMATION CONTACT: Bob Bayer, Project Coordinator, Manchester Ranger District, USDA Forest Service, 2538 Depot Street, Manchester Center, VT 05255; 802-362-2307 ext. 218; e-mail: rbayer@fs.fed.us.

SUPPLEMENTARY INFORMATION: The original notice of intent to prepare the Deerfield Wind Project EIS was published in the Federal Register on July 15, 2005 (Vol. 70, No. 135, page 409750). Revisions are as noted here. The responsible official is now Meg Mitchell, Forest Supervisor, Green Mountain and Finger Lakes National Forest. The expected dates for the release of the EIS is as noted above. The proposed action has been clarified as follows.

Modifications to the Proposed Action

The Deerfield Wind Project is now proposed to consist of 17 wind turbines with a rotor size of 87 or 88 meters in diameter for a total turbine height from ground to the top of the blade tip at about 400 to 410 feet and a name plate power rating of 2.0 or 2.1 megawatts (MW), depending upon which model of turbine is selected. The original notice proposed 20 to 30 turbines approximating 340-370 feet in height with a power rating of between 1.5 to 2.0 MW per turbine. The site will now be capable of producing 34 or 35.7 MW whereas the original proposal called for a site capacity of 30 to 45 MW of electricity. Access to the western project area will be from the north along a private road known as the Putnam Road, and will extend westerly onto Forest Service land, rather than from the south end of the project site as originally proposed. A storage and maintenance building and a new substation will be sited along the northern access road. An alternative to connect to an existing Green Mountain Power Company substation on private land on the east side of Route 8 is no longer feasible due to capacity issues.

Responsible Official

Meg Mitchell, Forest Supervisor, Green Mountain and Finger Lakes National Forests, 231 North Main Street, Rutland, VT 05701-2417.

Comments Requested

This revised notice of intent continues the process of gathering comments which guides the development of the environmental impact statement. The primary purpose is to gather public comments, issues, and concerns regarding the proposed action. Comments, issues and concerns will be used to help formulate alternatives to the proposed action. Please make your written comments as specific as possible as they relate to the modifications of the proposed action. There is no need to re-submit comments or thoughts that you have already submitted during the formal scoping process held in July-August of 2005. Those people new to the process at this time may feel free to provide a broader range of comments. Include your name, address, and, if possible, telephone number and e-mail address. Comments received in response to this solicitation, including the names and addresses of those who comment, will be considered part of the public record and will be available for public inspection. Comments submitted anonymously will be accepted and considered. Additionally, pursuant to 7 CFR 127(d), any person may request that a submission be withheld from the public record by showing how the Freedom of Information Act permits such confidentiality. Persons requesting such confidentiality should be aware that confidentiality is granted in only very limited circumstances. The Forest Service will inform the requester of its decision regarding a request for confidentiality. Where the request is denied, the submission will be returned, and the requester notified that the comments may be resubmitted with or without name and address.

Dated: September 20, 2007.
Steve Roy,
Acting Forest Supervisor.

[FR Doc. 07-4747 Filed 9-26-07; 8:45 am]

BILLING CODE 3410-11-M